NATIONAL AERONAUTICS AND SPACE ADMINISTRATION

[Notice 00-059]

Notice of Agency Report Forms Under OMB Review

AGENCY: National Aeronautics and Space Administration (NASA).

SUMMARY: The National Aeronautics and Space Administration, as part of its continuing effort to reduce paperwork and respondent burden, invites the general public and other Federal agencies to take this opportunity to comment on proposed and /or continuing information collections, as required by the Paperwork Reduction Act of 1995 (Public Law 104-13, 44 U.S.C. 3506(c)(2)(A)). Reports are required to comply with statutes and implementing regulations.

DATES: All comments should be submitted on or before July 30, 2000.

ADDRESSES: All comments should be addressed to Mr. Richard Kall, Code HK National Aeronautics and Space Administration, Washington, DC 20546-0001.

FOR FURTHER INFORMATION CONTACT: Ms. Carmela Simonson, NASA Reports Officer, (202) 358-1223.

Title: Patents.

OMB Number: 2700-0048.

Type of review: Extension.

Need and Uses: Grant provisions require that recipients include a list of all inventions required to be disclosed in their annual Performance Report. NASA grant officers and legal counsel review the information to ensure the proper disposition of rights to inventions made in the course of NASA-funded research is completed in accordance with statutes.

Affected Public: Business or other for-profit, Not-for-profit institutions, State, Local or Tribal Government.

Number of Respondents: 9,347.

Responses Per Respondent: 1.

Annual Responses: 9,347.

Hours Per Request: 30 min to 8 hrs.

Annual Burden Hours: 17,276.

Frequency of Report: Annually.

David B. Nelson,
Deputy Chief Information Officer, Office of the Administrator.

[FR Doc. 00-13355 Filed 5-26-00; 8:45 am]

BILLING CODE 7510-01-P